NUCLEAR REGULATORY COMMISSION

[License No. 19-00915-03, Docket No. 03004530]

Consideration of Amendment Request to Remediate a Radioactive Waste Burial Site at the U.S. Department of Agriculture Facility in Ames, IA and Opportunity for a Hearing

The Nuclear Regulatory Commission is considering amending the United States Department of Agriculture's Byproduct Materials License No. 19-00915-03 to authorize excavation and remediation of the radioactive waste burial site located at its facilities in Ames, Story County, Iowa.

The U.S. Department of Agriculture (USDA) submitted a request dated August 16, 2002, for an amendment to Nuclear Regulatory Commission (NRC) License No. 19-00915-03. The licensee requests approval to decommission a radioactive waste burial site located on its property in Ames, Iowa. USDA proposes to excavate the site and retrieve the buried radioactive waste for shipment to a commercial waste disposal site in accordance with the procedures contained in that and subsequent submissions. The licensee has retained Cabrera Services, Inc., an NRC licensee (License No. 06-30556-01), to perform the decommissioning and remediation of the site.

The amendment request by United States Department of Agriculture and related documents are available for inspection and copying for a fee at the Region I Office, 475 Allendale Road, King of Prussia, PA 19406. The documents may also be viewed in the Agency-wide Document Access and Management System (ADAMS) located on the NRC Web site at http://www.nrc.gov. These documents include:

Letter from U.S. Department of Agriculture to USNRC, Region I, dated August 16, 2002 requesting approval to remediate burial site at National Animal Disease Center, Ames, IA, with enclosed Work Plan. (ML022330227)

Letter from Cabrera Services to USNRC, Region I, dated August 20, 2002 providing documents used in historical assessment of burial site (ML022390595).

Letter from USEPA, Region VII to UDSA, dated August 6, 2002, regarding Engineering Evaluation and Cost Analysis for NADC, Ames, IA (ML022270115).

Fax from USDA to USNRC, Region I dated September 11, 2002 providing additional information (ML022550516).

Engineering Evaluation and Cost Analysis for USDA National Animal Disease Center, Revision 1, Final, dated August 14, 2002 (ML022690109).

Environmental Assessment and Finding of No Significant Impact, dated October 24, 2002 (ML022890591).

Any person whose interest may be affected by the issuance of this action may file a request for a hearing. Any hearing request must be filed with the Office of the Secretary, U.S. Nuclear Regulatory Commission, Washington, DC 20555, within 30 days of the publication of this notice in the Federal Register; be served on the NRC staff (Executive Director of Operations, One White Flint North, 11555 Rockville Pike, Rockville, MD 20852 and Region I, Chief, Nuclear Materials Safety Branch, 475 Allendale Road, King of Prussia, PA 19406), and on the licensee (U.S. Department of Agriculture, 5601 Sunnyside Avenue, Mail Stop 5510, Beltsville, MD. 20705); and must comply with the requirements for requesting a hearing set forth in the Commission's regulations, 10 CFR Part 2, Subpart L, “Information Hearing Procedures for Adjudications in Materials Licensing Proceedings.”

These requirements, which the request must address in detail, are:

1. The interest of the requestor in the proceeding;

2. How that interest may be affected by the results of the proceeding (including the reasons why the requestor should be permitted a hearing);

3. The requestor's areas of concern about the licensing activity that is the subject matter of the proceeding; and

4. The circumstances establishing that the request for hearing is timely—that is, filed within 30 days of the date of this notice.

In addressing how the requestor's interest may be affected by the proceeding, the request should describe the nature of the requestor's right under the Atomic Energy Act of 1954, as amended, to be made a party to the proceeding; the nature and extent of the requestor's property, financial, or other (i.e., health, safety) interest in the proceeding; and the possible effect of any order that may be entered in the proceeding upon the requestor's interest.

Dated at King of Prussia, Pennsylvania, this 16th day of October, 2002.
For the Nuclear Regulatory Commission.
John D. Kinneman,
Chief, Nuclear Materials Safety Branch, Division of Nuclear Materials Safety, Region I.

[FR Doc. 02-26984 Filed 10-23-02; 8:45 am]

BILLING CODE 7590-01-P